DEPARTMENT OF ENERGY

Federal Energy Regulatory Commission

[Docket No. RP02-364-000]

Dominion Transmission, Inc.; Notice of Termination of Gathering Service

July 2, 2002.

Take notice that on June 4, 2001, Dominion Transmission Inc.(DTI) tendered for filing pursuant to Section 4 of the Natural Gas Act, a notice of termination of gathering services currently being provided on a specified uncertificated line in Barbour County, West Virginia. DTI states that the uncertificated line and attached well are being sold to Lone Pine Operating Company, Inc.

DTI states further that copies of this filing have been mailed to all customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed on or before July 9, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-17171 Filed 7-8-02; 8:45 am]

BILLING CODE 6717-01-P